DEPARTMENT OF ENERGY

Federal Energy Regulatory Commission

[Docket No. CP16-480-000]

Annova LNG Common Infrastructure, LLC, Annova LNG Brownsville A, LLC, Annova LNG Brownsville B, LLC, Annova LNG Brownsville C, LLC; Notice of Reopening of Comment Period

On December 14, 2018, the Commission issued a notice setting February 4, 2019, as the end of the formal period to file comments on the Annova LNG Brownsville Project draft environmental impact statement. Due to the funding lapse at certain federal agencies between December 22, 2018 and January 25, 2019, the Commission is reopening the comment period until March 13, 2019.

Dated: February 7, 2019.
Kimberly D. Bose,
Secretary.

[FR Doc. 2019-02140 Filed 2-12-19; 8:45 am]

BILLING CODE 6717-01-P